DEPARTMENT OF HEALTH AND HUMAN SERVICES

Indian Health Service

List of Recipients of Indian Health Scholarships Under the Indian Health Scholarship Program

The regulations governing Indian Health Care Improvement Act Programs (Pub. L. 94-437) provide at 42 CFR 136.334 that the Indian Health Service shall publish annually in the Federal Register a list of recipients of Indian Health Scholarships, including the name of each recipient, school and Tribal affiliation, if applicable. These scholarships were awarded under the authority of Sections 103 and 104 of the Indian Health Care Improvement Act, 25 U.S.C. 1613-1613a, as amended by the Indian Health Care Amendments of 1988, Pub. L. 100-713.

The following is a list of Indian Health Scholarship Recipients funded under Sections 103 and 104 for Fiscal Year 2006:

Adams, Staci Brook, Northern Oklahoma College, Ponca Tribe of Indians of Oklahoma.

Ahenakew, Carol Marie, Walla Walla College, Blackfeet Tribe of the Blackfeet Indian Reservation of Montana.

Albers, Travis Alan, University of Mary, Turtle Mountain Band of Chippewa Indians of North Dakota.

Allen, Bryan Zachary, Southwestern Oklahoma State University, Choctaw Nation of Oklahoma.

Arredondo, Michael Howard, University of Minnesota/Duluth, Eastern Shawnee Tribe of Oklahoma.

Augare-Deal, Rael, University of Kansas, Blackfeet Tribe of the Blackfeet Indian Reservation of Montana.

Azure, Donna Rae, Turtle Mountain Community College, Turtle Mountain Band of Chippewa Indians of North Dakota.

Azure, Krysten Ross, University of North Dakota, Sisseton-Wahpeton Sioux Tribe of the Lake Traverse Reservation, South Dakota.

Babbitt, Jaime Lynn, Indiana University, Navajo Nation, Arizona, New Mexico& Utah.

Baker, Allison Marie, University of North Dakota, Three Affiliated Tribes of the Fort Berthold Reservation, North Dakota.

Baker, Laiel Inez, University of North Dakota, Three Affiliated Tribes of the Fort Berthold Reservation, North Dakota.

Baker, Valerie, University of New Mexico, Navajo Nation, Arizona, New Mexico & Utah.

Bales-Poirot, Deidre Leann, University of Missouri/Columbia, Eastern Shawnee Tribe of Oklahoma.

Banteah, Melinda Erika, University of New Mexico/Albuquerque, Zuni Tribe of the Zuni Reservation, New Mexico.

Barnett, Stephanie Deann, University of Pittsburgh, Cherokee Nation, Oklahoma.

Barrett, Courtney Paige, University of Oklahoma, Seminole Nation of Oklahoma.

Bayer, Amelia Dianne, University of New Mexico, Choctaw Nation of Oklahoma.

Beals, Bryan James, University of North Dakota, Muscogee (Creek) Nation, Oklahoma.

Beardslee, Amber Rochelle, The University of Puget Sound, Central Council of Tlingit & Haida Indian Tribes.

Beaver, Aaron Don, University of Oklahoma, Choctaw Nation of Oklahoma.

Beaver, Allen Don, University of Oklahoma, Choctaw Nation of Oklahoma.

Bebeau, Shari Kaye, University of Minnesota, Minnesota Chippewa Tribe, Minnesota.

Becenti, Elton, New Mexico State University, Navajo Nation, Arizona, New Mexico & Utah.

Becker, Tischa Lee, University of New Mexico, Cherokee Nation, Oklahoma.

Begay, Melanie, University of New Mexico, Navajo Nation, Arizona, New Mexico & Utah.

Begay, Monica Calley, University of New Mexico/Albuquerque, Navajo Nation, Arizona, New Mexico & Utah.

Begay, Velda Ann, Arizona State University, Navajo Nation, Arizona, New Mexico & Utah.

Begaye, Adrienne Marie, University of Arizona, Navajo Nation, Arizona, New Mexico & Utah.

Begaye, Amelia June, University of New Mexico, Navajo Nation, Arizona, New Mexico & Utah.

Begaye, Julianna, University of New Mexico, Navajo Nation, Arizona, New Mexico & Utah.

Bekis, Olin Jimmie, University of New Mexico/Albuquerque, Navajo Nation, Arizona, New Mexico & Utah.

Belgarde, Robin Ramona, University of North Dakota, Turtle Mountain Band of Chippewa Indians of North Dakota.

Bell, Lauren Beth, University of Oklahoma, Cherokee Nation, Oklahoma.

Benallie, Mariah J., University of New Mexico, Navajo Nation, Arizona, New Mexico & Utah.

Benally, Gerald Dean, San Juan Community College, Navajo Nation, Arizona, New Mexico & Utah.

Benally, Joann J., Northern Arizona University, Navajo Nation, Arizona, New Mexico & Utah.

Benally, Jolene, Northern Arizona University, Navajo Nation, Arizona, New Mexico & Utah.

Bercier, Audrey Lee, University of North Dakota, Turtle Mountain Band of Chippewa Indians of North Dakota.

Bernard, Kenneth Richard Lee, Harvard University, Turtle Mountain Band of Chippewa Indians of North Dakota.

Big Hair, Andrea Rochelle, Montana State University/Billings, Crow Tribe of Montana.

Bighorn, Mary Johanna, University of Montana, Assiniboine & Sioux Tribes of the Fort Peck Indian Reservation, Montana.

Billy, Larissia Jenny, University of Alaska, Blackfeet Tribe of the Blackfeet Indian Reservation of Montana.

Bissonette, Melvina Deneal, University of New Mexico, Oglala Sioux Tribe of the Pine Ridge Reservation, South Dakota.

Blackfox, Sasha Denee, Northeastern State University, Cherokee Nation, Oklahoma.

Blankenship, Lacey Kay, Southwestern Oklahoma State University, Cherokee Nation, Oklahoma.

Blevins, Regina Kay, North Dakota State University, Choctaw Nation of Oklahoma.

Boardman, RD Carter, Brigham Young University, Choctaw Nation of Oklahoma.

Boatwright, Melinda Lea, University of Oklahoma, Choctaw Nation of Oklahoma.

Bost, Dekoda Kole, University of Central Oklahoma, Choctaw Nation of Oklahoma.

Bousquet, Andrea Nicole, Northeastern State University, Cherokee Nation, Oklahoma.

Bowekaty, Althea, University of Phoenix, Zuni Tribe of the Zuni Reservation, New Mexico.

Bowers, Sherri Lynn, Rose State College, Choctaw Nation of Oklahoma.

Bradfield, Lavone Glema, Emory University, Standing Rock Sioux Tribe of North & South Dakota.

Brady, Meagan Leigh, University of Oklahoma, Comanche Nation, Oklahoma.

Bressman, Rebecca Rae, Portland State University, Citizen Potawatomi Nation, Oklahoma.

Brewster, Sarah Kate, University of Tulsa, Muscogee (Creek) Nation, Oklahoma.

Brockelman, Cassandra May, Southwestern Oklahoma State University, Seminole Nation of Oklahoma.

Brooks, Seth Russell, University of Oklahoma, Choctaw Nation of Oklahoma.

Brooksher, Callen Brett, Southwestern Oklahoma State University, Chickasaw Nation, Oklahoma.

Brown, Candice Lynn, Salish Kootenai College, Confederated Salish & Kootenai of the Flathead Reservation, Montana.

Brown, Cerissa Kalani, Oklahoma State University, Cherokee Nation, Oklahoma.

Brown, Christina Ann, University of North Dakota, Paiute-Shoshone Indians of the Bishop Community of the Bishop Colony, California.

Brown, Christy Lynn, University of Oklahoma, Cherokee Nation, Oklahoma.

Brown, Gerald Lee, University of North Dakota, Turtle Mountain Band of Chippewa Indians of North Dakota.

Brown, Randy Neil, Southwestern Indian Polytechnic Institute, Pueblo of Laguna, New Mexico.

Buckner, Jennifer Lynn, Arizona State University, Cheyenne-Arapaho Tribes of Oklahoma.

Buettner, Brian Edwin, University of Oklahoma, Citizen Potawatomi Nation, Oklahoma.

Burden, Katie Nicole, East Central University, Muscogee (Creek) Nation, Oklahoma.

Byrd, Alpheus Lee, Carl Albert State College, Cherokee Nation, Oklahoma.

Cain, Melanie Joy, Oklahoma State University, Pueblo of Santa Clara, New Mexico.

Cardenas, Dharshini, Dixie State College of Utah, Navajo Nation, Arizona, New Mexico & Utah.

Carey, Amanda Kay, A.T. Still University, Cherokee Nation, Oklahoma.

Carey, Candice Joy, Northeastern State University, Cherokee Nation, Oklahoma.

Casillas, Denise Myra, University of South Dakota, Cheyenne River Sioux Tribe of the Cheyenne River Reservation, South Dakota.

Castillo, Desiree Nicole, Baylor University, Choctaw Nation of Oklahoma.

Cavanaugh, Casey Lynne, Ohio State University, Shoshone-Paiute Tribes of the Duck Valley Reservation, Nevada.

Cavanaugh, Erica Rose, University of North Dakota, Spirit Lake Tribe, North Dakota.

Chancellor, Sarah Ellen, Carl Albert State College, Choctaw Nation of Oklahoma.

Chapman, Ashley Elizabeth, Nova Southeastern University, Mohegan Indian Tribe of Connecticut.

Charley, Cherilynn Lea, San Juan Community College, Navajo Nation, Arizona, New Mexico & Utah.

Clark, Jacqueline Renee, East Central University, Chickasaw Nation, Oklahoma.

Clarkson-Ray, Rachel Beth, Oklahoma State University, Cherokee Nation, Oklahoma.

Clauschee, Susan Francine, University of Arizona, Navajo Nation, Arizona, New Mexico & Utah.

Clemons, Danielle Nicole, Northern Arizona University, Pueblo of Acoma, New Mexico.

Cody, Leigh, Northern Arizona University, Navajo Nation, Arizona, New Mexico & Utah .

Cody, Teshina T., University of New Mexico, Navajo Nation, Arizona, New Mexico & Utah.

Colelay, Aletta Lynn, Northland Pioneer College, White Mountain Apache.

Coleman-Hack, Kristi Lynn, East Central University, Choctaw Nation of Oklahoma.

Collins, John Tate, University of Oklahoma, Cherokee Nation, Oklahoma.

Comb, Savanah, University of New Mexico, Navajo Nation, Arizona, New Mexico & Utah.

Combrink, Mark Alan, Southwestern Oklahoma State University, Chippewa Cree Indians of the Rocky Boy's Reservation, Montana.

Condon, Travis Wayne, North Dakota State University, Standing Rock Sioux Tribe of North & South Dakota.

Conley, Amanda Penner, University of Oklahoma, Chickasaw Nation, Oklahoma.

Constantine, Angie Casina, University of New Mexico/Albuquerque, Native Village of Tyonek.

Cook, Elizabeth Jane, East Central University, Choctaw Nation of Oklahoma.

Cook, Lyle C., University of California, Davis, Cheyenne River Sioux Tribe of the Cheyenne River Reservation, South Dakota.

Coolidge, Deborah Lena, University of Washington, Native Village of Aleknagik.

Coon, Teresa Lynne, University of Oklahoma, Seminole Nation of Oklahoma.

Corbin, Christopher Neal, University of Oklahoma, Cherokee Nation, Oklahoma.

Corcoran, Lauren Rae, University of Montana, Chippewa Cree Indians of the Rocky Boy's Reservation, Montana.

Crain, Stacy Rae, North Dakota State University, Turtle Mountain Band of Chippewa Indians of North Dakota.

Crawley, Misti Kay, Oklahoma State University, Choctaw Nation of Oklahoma.

Cribbs, Carolyn Suze, Sonoma State University, Cherokee Nation, Oklahoma.

Damon, Dezbaa Altaalkii, Arizona School of Dentistry, Navajo Nation, Arizona, New Mexico & Utah.

Damon, Mallary Jenna, University of New Mexico/Gallup, Navajo Nation, Arizona, New Mexico & Utah.

Davis, Abby Sue, University of Alaska, Turtle Mountain Band of Chippewa Indians of North Dakota.

Davis, Brandy Darlene, University of Cincinnati, Eastern Band of Cherokee Indians of North Carolina.

Davis, Krissie Lee, University of North Dakota, Turtle Mountain Band of Chippewa Indians of North Dakota.

Davis, Kylie Louise, University of North Dakota, Turtle Mountain Band of Chippewa Indians of North Dakota.

Davis, Robert Samuel, University of Washington/Northwest, Bad River Band of the Lake Superior Tribe of Chippewa Indians of the Bad River Reservation, Wisconsin.

Davis-Counts, Heather Rae, University of North Dakota, Turtle Mountain Band of Chippewa Indians of North Dakota.

Day, Autumn Ann, Kirksville College, Leech Lake Band.

Dejolie, Crista Lee, Northern Arizona University, Navajo Nation, Arizona, New Mexico & Utah.

Delgado, Jamael Theresa, University of North Dakota, Navajo Nation, Arizona, New Mexico & Utah.

Dempsey, Tanya Corina, University of New Mexico, Navajo Nation, Arizona, New Mexico & Utah.

Denetdale, Verdaleen, Drexel University, Navajo Nation, Arizona, New Mexico & Utah.

Dixon, Heather Renee, Black Hills State University, Oglala Sioux Tribe of the Pine Ridge Reservation, South Dakota.

Dodson, Charlene, Dona Ana Branch Community College, Navajo Nation, Arizona, New Mexico & Utah.

Duncan, Caleb Jerome, Northeastern State University, Cherokee Nation, Oklahoma.

Eldridge, Marinda, University of New Mexico/Gallup, Navajo Nation, Arizona, New Mexico & Utah.

Elmore, Amber Dawn, Meridian Technology Center, Chickasaw Nation, Oklahoma.

England (Demientieff), Manon Kristine, University of Alaska/Anchorage, Nenana Native Association.

English, Brittany Renee, Northeastern State University, Cherokee Nation, Oklahoma.

Estes, Abigail Reese, University of Kansas, Cherokee Nation, Oklahoma.

Evans, Amanda Lorna, Montana State University, Confederated Salish & Kootenai of the Flathead Reservation, Montana.

Falcon, Gilbert Raymond, University of North Dakota, Turtle Mountain Band of Chippewa Indians of North Dakota.

Falconer, Heidi Cambrie, Southwestern Oklahoma State University, Choctaw Nation of Oklahoma.

Fall, Tara 0., East Central University, Chickasaw Nation, Oklahoma.

Fischer, Monika Caroline, University of Arkansas/Fort Smith, Cherokee Nation, Oklahoma.

Fisher, Jayson Mikel, University of New Mexico, Choctaw Nation of Oklahoma.

Fogle, Robyn Lynn, Bacone College, Muscogee (Creek) Nation, Oklahoma.

Foote, Brittnee Irene, University of Mary, Turtle Mountain Band of Chippewa Indians of North Dakota.

Ford-Bremerman, Jessica Louise, University of Washington, Confederated Tribes and Bands of the Yakama Nation, Washington.

Fourkiller, William Travis, Connors State College, Cherokee Nation, Oklahoma.

Fox, Juanita Mendoza, Strayer University, Sisseton-Wahpeton Sioux Tribe of the Lake Traverse Reservation, South Dakota.

Freeling, Katherine Jane, Oklahoma State University, Cherokee Nation, Oklahoma.

French, Zachary Ashton, University of Oklahoma, Cherokee Nation, Oklahoma.

Gallagher, Shawna Fay, Portland State University, Klammath Tribes, Oregon.

Gibe, Nicole Rachelle, University of Oklahoma, Cherokee Nation, Oklahoma.

Gillies, Kenneth Jay, North Dakota State University, Three Affiliated Tribes of the Fort Berthold Reservation, North Dakota.

Gloshay, Janet Johnson, Gateway Community College, Navajo Nation, Arizona, New Mexico & Utah.

Good, Jennifer Lynn, University of North Dakota, Turtle Mountain Band of Chippewa Indians of North Dakota.

Good, Tanya Michelle, Nebraska Methodist College, Red Lake Band of Chippewa Indians, Minnesota.

Goodblanket, Minnie Peshlakai, University of Alaska, Cheyenne-Arapaho Tribes of Oklahoma.

Gore, Nicole Charmaine, Arizona School of Dentistry, Crow Tribe of Montana.

Gorham, Janet Lee, University of Missouri at Kansas City, Seneca-Cayuga Tribe of Oklahoma.

Gorman, Emmeline Paula, Northern Arizona University, Navajo Nation, Arizona, New Mexico & Utah.

Gorman, Jack Gerald, University of California, Davis, Karuk Tribe of California.

Graham, Gerritt Wren, University of Oklahoma, Chickasaw Nation, Oklahoma.

Granbois, Rae Alison, Dakota State University, Turtle Mountain Band of Chippewa Indians of North Dakota.

Gray, Dustin Wayne, Oklahoma Baptist University, Cherokee Nation, Oklahoma.

Grogan, Gary Lee, Boise State University, Aleut.

Groten, Clarence Aaron, University of New Mexico, Navajo Nation, Arizona, New Mexico & Utah.

Hajicek, Jodi Lynn, University of North Dakota, Turtle Mountain Band of Chippewa Indians of North Dakota.

Hall, Sherry Michelle, North Dakota State College, Three Affiliated Tribes of the Fort Berthold Reservation, North Dakota.

Hardy, Miranda, University of New Mexico/Albuquerque, Navajo Nation, Arizona, New Mexico & Utah.

Hargis, Nicole Leigh, East Central University, Choctaw Nation of Oklahoma.

Harker, Erica Michelle, University of New Mexico, Zuni Tribe of the Zuni Reservation, New Mexico.

Harlan, Erica Sue, Oklahoma State University, Muscogee (Creek) Nation, Oklahoma.

Harp, Emma Beth, Oklahoma State University, Cherokee Nation, Oklahoma.

Harris, Leslie Jo, University of North Dakota, Turtle Mountain Band of Chippewa Indians of North Dakota.

Harrison, Gilbert, University of Arizona, Navajo Nation, Arizona, New Mexico & Utah.

Harvey, Melissa R., University of New Mexico, Navajo Nation, Arizona, New Mexico & Utah.

Hawk, Sonny Skye, Northeastern State University, Standing Rock Sioux Tribe of North & South Dakota.

Hayes-Coons, Jennifer Lynn, Har-Ber School of Nursing, Cherokee Nation, Oklahoma.

Hays, Jessica Eileen, Bacone College, Cherokee Nation, Oklahoma.

Hendrex, Douglas Brian, University of North Dakota, Cherokee Nation, Oklahoma.

Henry, David Edmond, Oral Roberts University, Cherokee Nation, Oklahoma.

Henry, Joni Rae, Minot State University, Turtle Mountain Band of Chippewa Indians of North Dakota.

Hight, Teresa Lynn, American Institute of Medical Technology, Pueblo of Laguna, New Mexico.

Hobbs, Patricia Louise, Portland State University, Karuk Tribe of California.

Howell, Jean Gregory, University of Minnesota/Duluth, Cherokee Nation, Oklahoma.

Howell, Jesse Ray, University of Oklahoma, Choctaw Nation of Oklahoma.

Huerth, Benjamin Walter, University of Vermont College, Winnebago of Nebraska.

Hulsey, Heidi Lynne, Pacific University, Lummi Tribe of the Lummi Reservation, Washington.

Huskon, Philbert, Arizona State University, Navajo Nation, Arizona, New Mexico & Utah.

James, Jessica Helena, University of New Mexico, Navajo Nation, Arizona, New Mexico & Utah.

Jay, Donna Marie, University of Science & Arts of Oklahoma, Apache Tribe of Oklahoma.

Jensen, Janelle Blake, University of Arizona, Navajo Nation, Arizona, New Mexico & Utah.

Jim, Cheyenne Crystal, University of New Mexico/Albuquerque, Navajo Nation, Arizona, New Mexico & Utah.

Jim, Lawanda T., University of New Mexico/Albuquerque, Navajo Nation, Arizona, New Mexico & Utah.

Jimerson, Billye Rene, Bacone College, Muscogee (Creek) Nation, Oklahoma.

Joe, Felma Marie, New Mexico Highlands University, Navajo Nation, Arizona, New Mexico & Utah.

John, Frederick Jeremy, University of Nevada/Las Vegas, Pyramid Lake Paiute Tribe of the Pyramid Lake Reservation, Nevada.

Johnson, Jamie Leanne, New Mexico State University, Cherokee Nation, Oklahoma.

Johnston, Cara Leanne, Oklahoma State University, Cherokee Nation, Oklahoma.

Jones, Joshua David, Lamar University, Cherokee Nation, Oklahoma.

Jones, Mary Etta, Rogers State College, Cherokee Nation, Oklahoma.

Jones, Myles Randall, University of Nebraska/Omaha, Choctaw Nation of Oklahoma.

Kaiser, Joshua Lee, Rogers State College, Cherokee Nation, Oklahoma.

Kaiser, Megan Lynn, North Dakota State University, White Earth Band.

Keawphalouk, Michelle Dow, University of North Dakota, Muscogee (Creek) Nation, Oklahoma.

Keel, Andrea Lynn, University of Oklahoma, Chickasaw Nation, Oklahoma.

Keplin, Jessi Lee, Minot State University, Turtle Mountain Band of Chippewa Indians of North Dakota.

Kirk, Brant Evan, Oregon Institute of Technology, Klamath Tribes, Oregon.

Kirk, Roxanne Nina Heather, Northern Arizona University, Navajo Nation, Arizona, New Mexico & Utah.

Klade, Adrianne Theresa, Albuquerque Technical Vocation, Navajo Nation, Arizona, New Mexico & Utah.

Knight, Laura Ulogilv, University of Oklahoma, Choctaw Nation of Oklahoma.

Knudson, Nicolette Jean, University of Washington, Sisseton-Wahpeton Sioux Tribe of the Lake Traverse Reservation, South Dakota.

Kuka, Sarah Elizabeth, University of Montana, Blackfeet Tribe of the Blackfeet Indian Reservation of Montana.

Lafromboise, Sandy Marie, Minot State College, Turtle Mountain Band of Chippewa Indians of North Dakota.

Landers, Joseph Henry, University of Oklahoma, Muscogee (Creek) Nation, Oklahoma.

Langager, Jason Michael, Brigham Young University, Turtle Mountain Band of Chippewa Indians of North Dakota.

Langan, Ashley Winona, University of North Dakota, Turtle Mountain Band of Chippewa Indians of North Dakota.

Largo, Revina, University of Utah, Navajo Nation, Arizona, New Mexico & Utah.

Larney, Kristi Tafv, Southwestern Oklahoma State University, Seminole Nation of Oklahoma.

Larocque, Angie Lynn, University of North Dakota, Turtle Mountain Band of Chippewa Indians of North Dakota.

Larsen, Chrissy Marie, Southwest Missouri State University, Seneca-Cayuga Tribe of Oklahoma.

Lauderdale, Lisa Ann, University of Oklahoma, Kickapoo Tribe of Oklahoma.

Lawrence, Jordan Shay, Presentation College, Cheyenne River Sioux Tribe of the Cheyenne River Reservation, South Dakota.

Leslie (Lay), Pamela Christine, William Howard Taft University, Muscogee (Creek) Nation, Oklahoma.

Lewis, Sheyenne Leigh, University of New Mexico/Albuquerque, Navajo Nation, Arizona, New Mexico & Utah.

Lonasee, Samantha, University of New Mexico, Zuni Tribe of the Zuni Reservation, New Mexico.

Long, Chrissy Jaclyn, High-Tech Institute, Navajo Nation, Arizona, New Mexico & Utah.

Longhurst, Claire Frances, University of North Dakota, Navajo Nation, Arizona, New Mexico & Utah.

Lorenzo, Tara Ann, University of Kansas, Navajo Nation, Arizona, New Mexico & Utah.

Losik-Welch, Roberta Toneena, Everett Community College, Tulalip Tribes of the Tulalip Reservation, Washington.

Lovato, Kristin Ann, Arizona State University, Pueblo of Santo Domingo, New Mexico.

Lowry, Jodie Roberta, Winthrop University, Lumbee, North Carolina.

Luedecke, James Anthony, University of Arkansas, Cherokee Nation, Oklahoma.

Lyons, Keri Diane, Bacone College, Cherokee Nation, Oklahoma.

Maddox, Kevin Wayne, Lecom Bradenton, Muscogee (Creek) Nation, Oklahoma.

Maloney, Violet Spring, Northern Arizona University, Navajo Nation, Arizona, New Mexico & Utah.

Manheimer, Sophina Lynn, University of Rochester, Navajo Nation, Arizona, New Mexico & Utah.

Mannila, Anthony Lee, College of St. Scholastica, Bad River Band of the Lake Superior Tribe of Chippewa Indians of the Bad River Reservation, Wisconsin.

Manning, Tessa Leigh, University of Texas Southwestern Medical School, Chickasaw Nation, Oklahoma.

Martin-Tiller, Linda Christine, University of California/San Francisco, Confederated Tribes of the Siletz Reservation, Oregon.

Martinez, Jolynn, University of New Mexico/Albuquerque, Navajo Nation, Arizona, New Mexico & Utah.

Martinez, Shawna Lynn, University of Alaska/Anchorage, Navajo Nation, Arizona, New Mexico & Utah.

Matlock, Jazmin, Oklahoma State University, Cherokee Nation, Oklahoma.

Matthews, William Burt Lewis, Oklahoma State University, Cherokee Nation, Oklahoma.

Mayes, Nicole Rachel, Oklahoma State University, Cherokee Nation, Oklahoma.

McCloud, Kelly Sue, University of North Dakota, Turtle Mountain Band of Chippewa Indians of North Dakota.

McDaniels, Christopher Michael, Northeastern State University, Cherokee Nation, Oklahoma.

Mcgeshick, Cole David, University of Washington, Sokaogon Chippewa Community, Wisconsin.

McGinn, Michelle Lee, New Mexico Highlands University, Pueblo of Acoma, New Mexico.

McGraw, Crystal Annette, University of Minnesota, Duluth, Sisseton-Wahpeton Sioux Tribe of the Lake Traverse Reservation, South Dakota.

McLemore, Alison Denise, Southwestern Oklahoma State University, Cherokee Nation, Oklahoma.

McLemore, Dustin James, University of Oklahoma, Caddo Indian Tribe of Oklahoma.

McPherson, Patricia Lee Ann, University of Washington, Quapaw Tribe of Indians, Oklahoma.

Meierotto, Chelsie Leigh Chelsea, University of Minnesota, Red Cliff Band of Lake Superior of Chippewa Indians of Wisconsin.

Mika, Krista Leigh, University of Minnesota, Bad River Band of the Lake Superior Tribe of Chippewa Indians of the Bad River Reservation, Wisconsin.

Miller, Carl Eugene, Rosalind Franklin University, Muscogee (Creek) Nation, Oklahoma.

Miller, Jacklyn Jean, University of North Dakota, Oglala Sioux Tribe of the Pine Ridge Reservation, South Dakota.

Miller, John Ross, Oklahoma State University, Cherokee Nation, Oklahoma.

Mills, Victoria Lanayne, Northeastern State University, Muscogee (Creek) Nation, Oklahoma.

Moalemi, Nooshin Megan, Touro University/Nevada, Navajo Nation, Arizona, New Mexico & Utah.

Mogelnicki, Lisa Suzanne, Des Moines University, Cherokee Nation, Oklahoma.

Morales, Ruby Ann, Northern Arizona University, Navajo Nation, Arizona, New Mexico & Utah.

Morin, Georgia Maria, University of North Dakota, Turtle Mountain Band of Chippewa Indians of North Dakota.

Morris, Gerald Wayne, Indiana University, Pokagon Band of Potawatomi Indians, Michigan and Indiana.

Morris, Winifred, University of New Mexico, Navajo Nation, Arizona, New Mexico & Utah.

Morrison, Clint Justin, University of Oklahoma, Choctaw Nation of Oklahoma.

Morton, Sha-Rhonda Michelle, Oklahoma State University, Cherokee Nation, Oklahoma.

Murphy, Sharolyn Fannie, Rose State College, Chickasaw Nation, Oklahoma.

Murray, Carl Arthur, University of Oklahoma, Choctaw Nation of Oklahoma.

Murray, Sara Emily, University of Oklahoma, Choctaw Nation of Oklahoma.

Nail, Cynthia Diane, East Central University, Chickasaw Nation, Oklahoma.

Nelson, Celeste Irene, Dartmouth, Ely Shoshone Tribe of Nevada.

Nelson, Deann Lynn, University of New Mexico/Gallup, Navajo Nation, Arizona, New Mexico & Utah.

Nez, Yolanda Primrose, University of New Mexico, Navajo Nation, Arizona, New Mexico & Utah.

Nicholson, Kasey Joseph, Montana State University/Billings, Fort Belknap Indian Community of the Fort Belknap Reservation of Montana.

Nicholson, Reuben Samuel, University of Alaska, Nome Eskimo Community.

Nix, Micah Douglass, Oklahoma State University, Cherokee Nation, Oklahoma.

Noisy Hawk, Lyle James, University of Minnesota, Oglala Sioux Tribe of the Pine Ridge Reservation, South Dakota.

Norris, Valerie, University of Minnesota, Red Lake Band of Chippewa Indians, Minnesota.

Not Afraid, Rosebud Faith, Montana State University/Bozeman, Crow Tribe of Montana.

O'Neal, Brandy Michelle, Oklahoma State University, Cherokee Nation, Oklahoma.

O'Brien, Nancy Sue, Rio Salado College, Cherokee Nation, Oklahoma.

O'Connell, Meghan Curry, University of Washington, Cherokee Nation, Oklahoma.

Old Coyote, Edwina Mae, University of North Dakota, Crow Tribe of Montana.

Oldacre, Angela Marie, University of Oklahoma, Cherokee Nation, Oklahoma.

O'Leary, Veronica Anne, University of North Carolina/Chapel Hill, Cheyenne River Sioux Tribe of the Cheyenne River Reservation, South Dakota.

Oxford, Dustin Joseph, A.T. Still University, Cherokee Nation, Oklahoma.

Oyebi, Surphina Ann, University of New Mexico, Navajo Nation, Arizona, New Mexico & Utah.

Paduano, Pamela Diane, Glendale Community College, Navajo Nation, Arizona, New Mexico & Utah.

Page, Tyler Stephen, University of Oklahoma, Cherokee Nation, Oklahoma.

Palacol, Christie Kahikuonalani, Touro University, Comanche Nation, Oklahoma.

Palmer, Jason Eric, Spokane Falls Community College, Confederated Tribes of the Colville Reservation, Washington.

Parker, Mahate Ann, University of North Dakota, Chickasaw Nation, Oklahoma.

Pascoe, Vannessa Hochhalter, New York University, Oglala Sioux Tribe of the Pine Ridge Reservation, South Dakota.

Patton, Mary, Murray State College, Chickasaw Nation, Oklahoma.

Paul, Kimberly Lynn, University of Montana, Blackfeet Tribe of the Blackfeet Indian Reservation of Montana.

Pearish, Loni Dawn, Oklahoma State University, Cherokee Nation, Oklahoma.

Pearman, Zachary Brian, University of Wyoming, Cheyenne River Sioux Tribe of the Cheyenne River Reservation, South Dakota.

Pecos, Ida Marie, University of New Mexico/Albuquerque, Pueblo of Jemez, New Mexico.

Peltier, Luke Joseph, North Dakota State University, Turtle Mountain Band of Chippewa Indians of North Dakota.

Peltier, Rodrick Allan, North Dakota State University, Turtle Mountain Band of Chippewa Indians of North Dakota.

Peters, Aaron Lee, University of Alaska/Anchorage, Native Village of Ruby.

Petersen, Heather Rae, University of South Dakota, Oglala Sioux Tribe of the Pine Ridge Reservation, South Dakota.

Peterson, Jade Marie, University of Mary, Cheyenne River Sioux Tribe of the Cheyenne River Reservation, South Dakota.

Phelps, Nichole Marie, Northeastern State University, Cherokee Nation, Oklahoma.

Phillips, Lydia Elaine, Southwestern Oklahoma State University, Choctaw Nation of Oklahoma.

Pigeon, Marisa Kay, Minnesota West Community & Technical College, Sisseton-Wahpeton Sioux Tribe of the Lake Traverse Reservation, South Dakota.

Pletnikoff, Elise Marie, University of Washington, Sun'aq Tribe of Kodiak, (formerly Shoonaq' Tribe of Kodiak).

Poitra, Shonda Lee, Minot State University, Turtle Mountain Band of Chippewa Indians of North Dakota.

Pond, Leland James, Arizona School of Dentistry, Assiniboine & Sioux Tribes of the Fort Peck Indian Reservation, Montana.

Preston, Drew Alan, University of California/Los Angeles, Navajo Nation, Arizona, New Mexico & Utah.

Prettypaint, Debra Ann, University of Montana, Crow Tribe of Montana.

Price, Aaron Joseph, University of New Mexico/Albuquerque, Navajo Nation, Arizona, New Mexico & Utah.

Putnam, Sara Jane, University of Wisconsin, Stockbridge Munsee Community, Wisconsin.

Quillman, Steven Kurt, Tulsa Community College, Seminole Nation of Oklahoma.

Racehorse, Verna Lee, Boise State University, Shoshone-Bannock Tribes of the Fort Hall Reservation of Idaho.

Ragsdale, Allison Lynn, Evangel University, Cherokee Nation, Oklahoma.

Ramirez, Amanda Jo, Seminole Junior College, Muscogee (Creek) Nation, Oklahoma.

Ramone, Bernadette Nina, University of New Mexico/Albuquerque, Navajo Nation, Arizona, New Mexico & Utah.

Rasor, Joseph James, Midwestern University, Navajo Nation, Arizona, New Mexico & Utah.

Razote, Antoinette Jo, Eastern Washington University, Sisseton-Wahpeton Sioux Tribe of the Lake Traverse Reservation, South Dakota.

Redcorn, Moira Ambrose, Oklahoma State University, Osage Tribe, Oklahoma.

Redhouse, Brenda Lynn, Northern Arizona University, Navajo Nation, Arizona, New Mexico & Utah.

Reising, Kotanee Tenas, Medical College of Wisconsin, Menominee Indian Tribe of Wisconsin.

Rice, Charan Norwakis, Xavier University of Louisiana, Pawnee Nation of Oklahoma.

Richards, Matthew Douglas, Marquette University, Red Cliff Band of Lake Superior of Chippewa Indians of Wisconsin.

Rico, Jennifer Rebecca Rose, Oklahoma City University, Caddo Indian Tribe of Oklahoma.

Riffe, Evelyn Laura, University of Alaska, Native Village of Hooper Bay.

Riggs, Gwendelyn Dee, Northern Arizona University, Navajo Nation, Arizona, New Mexico & Utah.

Riggs, Jaclyn Nichole, St Louis University, Cheyenne-Arapaho Tribes of Oklahoma.

Rigsby, Carrieretha Joetta, Bacone College, Cherokee Nation, Oklahoma.

Risenhoover, Danny Joe, Bacone College, Choctaw Nation of Oklahoma.

Roberts, Sarah Whitney, Bacone College, Cherokee Nation, Oklahoma.

Robertson, Kandice Denae, East Central University, Choctaw Nation of Oklahoma.

Rodriguez, Suzanne Linette, Eastern Washington University, Pueblo of Isleta, New Mexico.

Rogers, Kalen Jared, University of Oklahoma, Chickasaw Nation, Oklahoma.

Rogers, Valerie Jean, Bacone College, Cherokee Nation, Oklahoma.

Romero, Teresa Beth, University of North Dakota, Turtle Mountain Band of Chippewa Indians of North Dakota.

Ross, Aaron Daniel, Southwestern Oklahoma State University, Cherokee Nation, Oklahoma.

Ross, David Byasa, Oklahoma State University, Cherokee Nation, Oklahoma.

Ross, Matthew, University of Southern California, Cherokee Nation, Oklahoma.

Rouillard, Allison Marie, University of North Dakota, Sisseton-Wahpeton Sioux Tribe of the Lake Traverse Reservation, South Dakota.

Rucker-Whytal, Amanda Anne, Kansas City University, Osage Tribe, Oklahoma,

Saladin, Elizabeth Jane, Howard University, Seminole Nation of Oklahoma.

Salois-Albert, Shaunda Marie, Walla Walla College, Confederated Salish & Kootenai of the Flathead Reservation, Montana.

Sanderson, Kendra Marie, University of Arizona, Navajo Nation, Arizona, New Mexico & Utah.

Sandoval, Kerri Dorea, Northern Arizona University, Navajo Nation, Arizona, New Mexico & Utah.

Sarter, Teresa Mae, Oregon State University, Central Council of the Tlingit & Haida Indian Tribes, Alaska.

Schmidt, Erin Michelle, University of Oklahoma, Muscogee (Creek) Nation, Oklahoma.

Schoemann, Lindsey Tanner, Oklahoma State University, Citizen Potawatomi Nation, Oklahoma.

Scott, Margaret Rochan, University of North Dakota, Spokane Tribe of the Spokane Reservation, Washington.

Sennett, Floy Lumae, Oklahoma Wesleyan University, Cherokee Nation, Oklahoma.

Shadaram, Sara Roya, University of Oklahoma, Cheyenne-Arapaho Tribes of Oklahoma.

Shepard, Cristopher Allan Joseph, University of Nevada/Las Vegas, Santee Sioux Nation.

Shipley-Skaggs, Amanda Marie, Southwestern Oklahoma State University, Cherokee Nation, Oklahoma.

Shirley, Jeremy, Mesa Community College, Navajo Nation, Arizona, New Mexico & Utah.

Sixkiller, Cheryl Lynn, University of Oklahoma, Cherokee Nation, Oklahoma.

Skeets, Jennifer A., University of New Mexico, Navajo Nation, Arizona, New Mexico & Utah.

Small, Shiloh Nicole, University of South Dakota, Northern Cheyenne Tribe of the Northern Cheyenne Indian Reservation, Montana.

Smith, Jana Renee, University of Oklahoma, Cherokee Nation, Oklahoma.

Smith, Lavonda, University of New Mexico/Gallup, Navajo Nation, Arizona, New Mexico & Utah.

Smith, Samantha Jenny, University of Alaska/Fairbanks, Navajo Nation, Arizona, New Mexico & Utah.

Snell, Deborah Dian, Northeastern State University, Cherokee Nation, Oklahoma.

Soliz, Narcisso, Southwestern Oklahoma State University, Rosebud Sioux Tribe of the Rosebud Indian Reservation, South Dakota.

Sorrell, Robin Lynn, Arizona State University, Navajo Nation, Arizona, New Mexico & Utah.

Spalding, Charles Scott, Arizona School of Dentistry, Sun'aq Tribe of Kodiak, (formerly Shoonaq' Tribe of Kodiak).

Sparkman, Madison Pauline, University of Oklahoma, Cherokee Nation, Oklahoma.

Stamile, Zachary Peter, Northeastern State University, Chickasaw Nation, Oklahoma.

Stevens, Anna Leone, Alliant International University, Sun'aq Tribe of Kodiak (formerly Shoonaq' Tribe of Kodiak).

Stevens, Erika S., Central Washington University, Native Village of Eagle.

Stickler, Desiree Nadine, University of New Mexico, Central Council of Tlingit & Haida Indian Tribes.

Stimson, Danielle Rain, Eastern Washington University, Blackfeet Tribe of the Blackfeet Indian Reservation of Montana.

Stitzer, Michael Eric, Mount Sinai University, Enterprise Rancheria of Maidu Indians of California.

Stone, Jennifer June, University of Oklahoma, Choctaw Nation of Oklahoma.

Strong, Charles Joseph, University of Texas at Austin, Chickasaw Nation, Oklahoma.

Sun Rhodes, Lisa Sky, University of Washington, Arapahoe Tribe of the Wind River Reservation, Wyoming.

Sweeney, Michael Aaron, Case Western Reserve University, Choctaw Nation of Oklahoma.

Tapp, Jamie Lynn, Southwestern Oklahoma State University, Chickasaw Nation, Oklahoma.

Tarango, Elena Marveya, Western College, lone Band of Miwok Indians of California.

Tarbell, Stephen Charles, University of Buffalo, St. Regis Band of Mohawk Indians of New York.

Taylor, Jennifer Elise, New York University, Pit River Tribe, California (includes, XL Ranch, Big Bend, Likely, Lookout, Montgomery Creek, and Roaring Creek Rancherias).

Taylor, Timothy Michael, Missouri Southern State College, Citizen Potawatomi Nation, Oklahoma.

Tedesco, Tomacita Feliz, University of New Mexico, Pueblo of Taos, New Mexico.

Teller, Terry Lee, University of New Mexico, Navajo Nation, Arizona, New Mexico & Utah.

Tenoso, Olowan Dawn Clara, University of New Mexico, Navajo Nation, Arizona, New Mexico & Utah.

Thomas, Levon Totsohnii, Massachusetts Institute of Technology, Navajo Nation, Arizona, New Mexico & Utah.

Thompson, Weston Dewey, Southwestern Oklahoma State University, Cherokee Nation, Oklahoma.

Thurmond-Montoya, Vivian Lynette, University of Alaska, Galena Village (aka Louden Village).

Tincher, Amber Nicole, University of North Dakota, Assiniboine & Sioux Tribes of the Fort Peck Indian Reservation, Montana.

Todachine, Katie Bah, University of New Mexico, Navajo Nation, Arizona, New Mexico & Utah.

Toledo, Sherri J., Gateway Community College, Navajo Nation, Arizona, New Mexico & Utah.

Tom, Valora Jean, Texas Woman's University, Navajo Nation, Arizona, New Mexico & Utah.

Tonasket, Joleen Michele, Washington State University Intercollegiate College, Spokane Tribe of the Spokane Reservation, Washington.

Townsend, Travis J., University of New Mexico at Albuquerque, Pueblo of Acoma, New Mexico.

Tripp, Emilio Amos, Humboldt State University, Karuk Tribe of California.

Tuomi, Ashley Renee, Washington State University, Confederated Tribes of the Grand Ronde Community of Oregon.

Turner, Stephen Matthew, Bemidji State University, Minnesota Chippewa Tribe, Minnesota.

Tveit, Adrienne Hilda, Washington State University, Central Council of Tlingit & Haida Indian Tribes.

Uttchin, Venus, University of Oklahoma, Muscogee (Creek) Nation, Oklahoma.

Vandagriff, Katie Larue, University of Oklahoma, Cherokee Nation, Oklahoma.

Varnell, Cassidy Gertrude, University of Phoenix, Cherokee Nation, Oklahoma.

Vicenti, Darlene, University of New Mexico/Gallup, Zuni Tribe of the Zuni Reservation, New Mexico.

Vicenti, Vanessa Lynn, University of New Mexico/Albuquerque, Zuni Tribe of the Zuni Reservation, New Mexico.

Walker, Breanna Jo, Northeastern State University, Cherokee Nation, Oklahoma.

Walker, Lindsay Allison, University of North Carolina, Eastern Band of Cherokee Indians of North Carolina.

Walker, Marshall Austin, University of Oklahoma, Cherokee Nation, Oklahoma.

Wallace, Becky Lee, College of St. Catherine, Winnebago of Nebraska.

Wanna, Jessica Jean, Minnesota State University, Sisseton-Wahpeton Sioux Tribe of the Lake Traverse Reservation, South Dakota.

Ward, Jennifer Elaine, Kirksville College, Cherokee Nation, Oklahoma.

Ward, Micah N., University of Oklahoma, Citizen Potawatomi Nation, Oklahoma.

Ward, Rolanda Reason, University of Alaska/Anchorage, Egegik Village.

Waters, Jonathan Michael, University of Texas, Choctaw Nation of Oklahoma.

Watts, Brandi Kay, University of Oklahoma, Choctaw Nation of Oklahoma.

Watts, Candace Summer, Hampton University, Navajo Nation, Arizona, New Mexico & Utah.

Webster, Roxanne Dione, College of Saint Mary, Assiniboine & Sioux Tribes of the Fort Peck Indian Reservation, Montana.

Wells, Natasha Nicole, Colorado State University, Standing Rock Sioux Tribe of North & South Dakota.

Werner, Gwenlynn Laine, Arizona School of Dentistry, Navajo Nation, Arizona, New Mexico & Utah.

West, Latoya Ann, University of New Mexico, Navajo Nation, Arizona, New Mexico & Utah.

Whistler, Brett Patrick, University of North Dakota, Citizen Potawatomi Nation, Oklahoma.

White, Christine Anne, University of Minnesota at Duluth, Sitka Tribe of Alaska.

White, Jenifer Lorraine, Oral Roberts University, Cherokee Nation, Oklahoma.

Whitehair, Orlantha, University of Arizona, Navajo Nation, Arizona, New Mexico & Utah.

Whitsitt, Adam Douglas, Midwestern University, Choctaw Nation of Oklahoma.

Wiley, Matthew Hallett, Oklahoma State University, Muscogee (Creek) Nation, Oklahoma.

Wilkerson, Thaddus Donavan, University of New Mexico, Navajo Nation, Arizona, New Mexico & Utah.

Wilkinson, Benjamin Bruce, University of North Dakota, Catawba Indian Tribe.

Williams, Clarrisa, University of Arizona, Navajo Nation, Arizona, New Mexico & Utah.

Williams, Jennifer Brooke, Washington State University, Choctaw Nation of Oklahoma.

Williams, Scott Bradley, University of Iowa, Cherokee Nation, Oklahoma.

Wilson, Lowery Elizabeth, University of Oklahoma, Cherokee Nation, Oklahoma.

Wilson, Patricia Kay, University of New Mexico/Gallup, Navajo Nation, Arizona, New Mexico & Utah.

Wilson, Sharon Jean, Northern Arizona University, Navajo Nation, Arizona, New Mexico & Utah.

Wilson-Idleman, Chase Te, University of Oklahoma, Choctaw Nation of Oklahoma.

Wind, Amber Rose, Oklahoma Baptist University, Seminole Nation of Oklahoma.

Winton, Lindsay Dallas, University of Oklahoma, Cherokee Nation, Oklahoma.

Wofford, Clifford Wendell, University of Oklahoma, United Keetoowah Band of Cherokee Indians in Oklahoma.

Woodral, Jaclyn Suzanne, Southeastern Oklahoma State University, Choctaw Nation of Oklahoma.

Woods, Tabatha Victoria, Northeastern State University, Cherokee Nation, Oklahoma.

Woodward, Amber Gail, University of Montana, Blackfeet Tribe of the Blackfeet Indian Reservation of Montana.

Woodward, Tiana Amanda, University of Oklahoma, Muscogee (Creek) Nation, Oklahoma.

Woosley, Thomas Martin, Northeastern State University, Cherokee Nation, Oklahoma.

Wright, Garrett Keith, University of Oklahoma, Cherokee Nation, Oklahoma.

Wright, Theodore Charles, University of Washington, Central Council of Tlingit & Haida Indian Tribes.

Yazzie, Celia Rose, University of New Mexico at Gallup, Navajo Nation, Arizona, New Mexico & Utah.

Yazzie, Delvin, University of Arizona, Navajo Nation, Arizona, New Mexico & Utah

Yazzie, Maria, University of New Mexico, Navajo Nation, Arizona, New Mexico & Utah

Yazzie, Vachera D., Northern Arizona University, Navajo Nation, Arizona, New Mexico & Utah.

Young, Naomi J., University of Arizona, Navajo Nation, Arizona, New Mexico & Utah.

Youngblood, Chase Culver, University of Oklahoma, Cherokee Nation, Oklahoma.

Zackery, Kathryn Sue, Oklahoma State University, Muscogee (Creek) Nation, Oklahoma.

Zeek, Courtney Mackenzie Joelle, Portland State University, Choctaw Nation of Oklahoma.

Zupan, Sherie Lee, University of North Dakota, Turtle Mountain Band of Chippewa Indians of North Dakota.

For Further Information Contact: The Indian Health Service Scholarship Branch, 801 Thompson Avenue, Suite 120, Rockville, Maryland 20852, Telephone: (301) 443-6197, Fax: (301) 443-6048.

Dated: March 26, 2007.
Charles. W. Grim,
Assistant Surgeon General, Director, Indian Health Service.

[FR Doc. 07-1634 Filed 4-3-07; 8:45 am]

BILLING CODE 4165-16-M